NATIONAL AERONAUTICS AND SPACE ADMINISTRATION

[Notice: 21-034]

Deep Space Food Challenge Phase 1 Extended Deadline

AGENCY: National Aeronautics and Space Administration (NASA).

ACTION: Notice of extension of the registration deadline for Deep Space Food Challenge Phase 1.

SUMMARY: The National Aeronautics and Space Administration (NASA) announces an extension of the Deep Space Food Challenge Phase 1 registration deadline for U.S. and non-Canadian International teams to June 25, 2021.

DATES: Challenge registration for Phase 1 opened January 12, 2021, and will remain open until the deadlines stated below. No further requests for registration will be accepted after the stated deadline.

Other important dates:

June 25, 2021—Phase 1 Registration Closes for U.S. & Non-Canadian International Teams

July 30, 2021—Submissions Due for all Teams

September 2021—Winner(s) Announced

FOR FURTHER INFORMATION CONTACT: To register for or get additional information regarding the Deep Space Food Challenge, please visit: www.deepspacefoodchallenge.org. For general information on NASA Centennial Challenges please visit: http://www.nasa.gov/challenges. General questions and comments regarding the program should be addressed to Monsi Roman, Centennial Challenges Program Manager, NASA Marshall Space Flight Center Huntsville, AL 35812, Phone (256) 544-4071, Email address: hq-stmd-centennialchallenges@mail.nasa.gov. For general information on the Canadian Space Agency please visit: https://www.canada.ca/en/space-agency.html. General questions and comments regarding the program should be addressed to ASC.DefiAEL-DSFChallenge.CSA@canada.ca.

SUPPLEMENTARY INFORMATION:

Summary

Phase 1 of the Deep Space Food Challenge will be conducted virtually. The Challenge competitors will develop and submit their design proposals from their own location.

The original registration deadline was released in the Federal Register on January 15, 2021. Ref: Federal Register/Vol. 86, No. 10/Friday, January 15, 2021/Notices; pages 4131-4132.

Cheryl Parker,
NASA Federal Register Liaison Officer.

[FR Doc. 2021-11905 Filed 6-7-21; 8:45 am]

BILLING CODE 7510-13-P